FEDERAL HOUSING FINANCE BOARD

[No. 2002-N-13]

Notice of Public Hearing on Federal Home Loan Bank Views Concerning Registration of Federal Home Loan Bank Stock Under the Securities Exchange Act of 1934

AGENCY: Federal Housing Finance Board.

ACTION: Notice of public hearing.

SUMMARY: Notice is hereby given that the Federal Housing Finance Board (Finance Board) will hold the following public hearing:

Time and Date of Hearing: 2 p.m., Monday, December 2, 2002.

Place: Board Room, Second Floor, Federal Housing Finance Board, 1777 F Street, NW., Washington, DC 20006.

Agenda: The Finance Board has scheduled a public hearing to consider Federal Home Loan Bank views concerning registration of Federal Home Loan Bank Stock under the Securities Exchange Act of 1934.

Only directors and executives of Federal Home Loan Banks may present testimony in person. Other parties will be permitted to submit written testimony only.

Those seeking to testify in person must submit written statements in electronic form no later than 2:00 p.m. EST, Friday, November 29, 2002. In addition, fifty (50) copies of your statement must be delivered to the Finance Board office prior to the hearing.

Banks and others submitting only written views must submit them in electronic form no later than 2:00 p.m. EST Monday, December 2, 2002 and must also deliver fifty (50) copies to the hearing location before the start of the hearing.

Status: This hearing will be open to the public.

ADDRESSES: Send testimony to Elaine L. Baker, Secretary to the Board, by electronic mail to bakere@fhfb.gov. Comments will be available for public inspection at this address.

FOR FURTHER INFORMATION CONTACT: Thomas D. Casey, Chief Counsel to the Chairman, 202-408-2957 or Elaine L. Baker, Secretary to the Board, 202-408-2837.

Dated: November 22, 2002.
Arnold Intrater,
General Counsel.

[FR Doc. 02-30078 Filed 11-25-02; 8:45 am]

BILLING CODE 6725-02-P